DEPARTMENT OF DEFENSE

Office of the Secretary

Establishment of Federal Advisory Committee; Quadrennial Defense Review Independent Panel

AGENCY: Department of Defense (DoD).

ACTION: Establishment of Federal advisory committee.

SUMMARY: Under the provisions of the Federal Advisory Committee Act of 1972, (5 U.S.C. Appendix, as amended), the Government in the Sunshine Act of 1976 (5 U.S.C. 552b, as amended), and 41 CFR 102-3.50(a), the Department of Defense gives notice that it is establishing the charter for the Quadrennial Defense Review Independent Panel (hereafter referred to as the Panel).

FOR FURTHER INFORMATION CONTACT: Jim Freeman, Deputy Committee Management Officer for the Department of Defense, 703-601-6128.

SUPPLEMENTARY INFORMATION: The Panel is a non-discretionary federal advisory committee established under the provisions of 10 U.S.C. 118(f), that shall provide the Committees on the Armed Services of the Senate and House of Representatives an assessment of the Department of Defense's Quadrennial Defense Review.

The Panel shall be comprised of no more than twelve members appointed by the Secretary of Defense, and shall be bipartisan.

The Secretary of Defense shall appoint Panel members to serve for the duration of this Quadrennial Defense Review, and those members, who are not full-time or permanent part-time Federal employees, shall be appointed as experts and consultants under the authority of 5 U.S.C. 3109 and serve as Special Government Employees.

The Secretary of Defense shall appoint two co-chairmen from the twelve members appointed, and these individuals shall be divided equally on a bipartisan basis.

Any vacancy in the Panel shall be filled in the same manner as the original appointment and, with the exception of travel and per diem for official travel, Panel members shall serve without compensation.

With DoD approval, the Panel is authorized to establish subcommittees, as necessary and consistent with its mission. These subcommittees or working groups shall operate under the provision of the Federal Advisory Committee Act of 1972, the Government in the Sunshine Act of 1976 (5 U.S.C 552B, as amended), and other appropriate Federal regulations.

Such Subcommittees or Working Groups shall not work independently of the chartered Panel, and shall report their recommendations and advice to the Panel for full deliberation and discussion. Subcommittees or Working Groups have no authority to make decisions on behalf of the chartered Panel nor can they report directly to the Department of Defense or any Federal officers or employees who are not Panel members.

Subcommittee members, who are not Panel members, shall be appointed in the same manner as the Board members.

The Panel shall meet at the call of the Board's Designated Federal Officer, in consultation with the Panel's Chairperson. The estimated number of Panel meetings is 3 per year. The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Panel membership about its mission and functions. Written statements may be submitted at any time or in response to the stated agenda of planned meeting of the Panel.

All written statements shall be submitted to the Designated Federal Officer for the Quadrennial Defense Review Independent Panel, and this individual will ensure that the written statements are provided to the membership for their consideration. Contact information for the Panel's Designated Federal Officer can be obtained from the GSA's FACA Database— https://www.fido.gov/facadatabase/public.asp.

The Designated Federal Officer, pursuant to 41 CFR 102-3.150, will announce planned meetings of the Panel. The Designated Federal Officer, at that time, may provide additional guidance on the submission of written statements that are in response to the stated agenda for the planned meeting in question.

Dated: September 28, 2009.
Patricia L. Toppings,
OSD Federal Register, Liaison Officer, Department of Defense.

[FR Doc. E9-23743 Filed 9-30-09; 8:45 am]

BILLING CODE 5001-06-P